DEPARTMENT OF TRANSPORTATION

Federal Aviation Administration

14 CFR Part 39

[Docket No. 2003-CE-67-AD; Amendment 39-13878; AD 2004-24-02]

RIN 2120-AA64

Airworthiness Directives; Ostmecklenburgische Flugzeugbau GmbH Model OMF-100-160 Airplanes

AGENCY: Federal Aviation Administration (FAA), DOT.

ACTION: Final rule.

SUMMARY: The FAA adopts a new airworthiness directive (AD) for certain Ostmecklenburgische Flugzeugbau GmbH (OMF) Model OMF-100-160 airplanes. This AD requires you to inspect the outside tube (cage) that supports the main landing gear leg for cracks, repair if cracks are found, and inspect the thickness of the tube if no cracks were found and reinforce the tube as necessary. This AD results from mandatory continuing airworthiness information (MCAI) issued by the airworthiness authority for Germany. We are issuing this AD to detect, correct, and prevent future cracks in the outside tube of the main landing gear leg, which could result in structural failure of the fuselage tubing assembly. This failure could lead to loss of control of the airplane.

DATES: This AD becomes effective on December 28, 2004.

As of December 28, 2004, the Director of the Federal Register approved the incorporation by reference of certain publications listed in the regulation.

ADDRESSES: To get the service information identified in this AD, contact Ostmecklenburgische Flugzeugbau GmbH, Flughafenstrasse, 17039 Trollenhagen, Federal Republic of Germany; telephone: 011 49 395 42560-0; facsimile: 011 49 395 42560-20. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is 2003-CE-67-AD.

FOR FURTHER INFORMATION CONTACT: Karl Schletzbaum, Aerospace Engineer, ACE-112, Small Airplane Directorate, 901 Locust, Room 301, Kansas City, Missouri, 64106; telephone: (816) 329-4146; facsimile: (816) 329-4149.

SUPPLEMENTARY INFORMATION:

Discussion

What events have caused this AD? The Luftfahrt-Bundesamt (LBA), which is the airworthiness authority for Germany, recently notified the FAA that an unsafe condition may exist on certain OMF Model OMF-100-160 airplanes. The LBA reports that the manufacturer received a report of cracks in the outside fuselage tube that supports the main landing gear leg. Further investigation revealed that one manufacturer of fuselage tubes used out-of-design dimensions for the tube elements.

What is the potential impact if FAA took no action? Cracks in the outside tube of the main landing gear leg, if not detected, corrected, and prevented, could result in structural failure of the fuselage tubing assembly. This failure could lead to loss of control of the airplane.

Has FAA taken any action to this point? We issued a proposal to amend part 39 of the Federal Aviation Regulations (14 CFR part 39) to include an AD that would apply to certain OMF Model OMF-100-160 airplanes. This proposal was published in the Federal Register as a notice of proposed rulemaking (NPRM) on August 18, 2004, (69 FR 51206). The NPRM proposed to detect, correct, and prevent future cracks in the outside tube of the main landing gear leg. These cracks could result in structural failure of the fuselage tubing assembly and lead to loss of control of the airplane.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 11 airplanes in the U.S. registry.

What is the cost impact of this AD on owners/operators of the affected airplanes? We estimate the following costs to accomplish the inspections:

Labor cost | Parts cost | Total cost per airplane | Total cost on U.S. operators
Inspection for cracks—2 workhours est. $65 per hour = $130 | N/A | $130 | $1,430.
Inspection for inadequate thickness of tubing that supports the main landing gear leg—2 workhours est. $65 per hour = $130 | N/A | 130 | OMF will cover the cost for the special inspection.

We estimate the following costs to accomplish any necessary repairs that would be required based on the results of these proposed inspections. We have no way of determining the number of airplanes that may need this repair:

Labor cost | Parts cost | Total cost per airplane
85 workhours × $65 per hour = $5,525 | None per manufacturer | $5,525

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. 2004-CE-67-AD” in your request.

This rulemaking is promulgated under the authority in Subtitle VII, Part A, Subpart III, Section 44701, General requirements. Under that section, the FAA is charged with prescribing minimum standards required in the interest of safety for the design of aircraft. This regulation is within the scope of that authority since it corrects an unsafe condition in the design of the aircraft caused by cracks in the outside tube of the main landing gear leg.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-24-02 Ostmecklenburgische Flugzeugbau GmbH: Amendment 39-13878; Docket No. 2004-CE-67-AD.

When Does This AD Become Effective?

(a) This AD becomes effective on December 28, 2004.

What Other ADs Are Affected by This Action?

(b) None.

What Airplanes Are Affected by This AD?

(c) This AD affects Model OMF-100-160 airplanes, serial numbers 0006, 0007, 0012 through 0015, 0017, 0018, 0020, 0021, 0024, 0025, 0028, and 0029; that are certificated in any category.

What Is the Unsafe Condition Presented in This AD?

(d) This AD is the result of cracks in the fuselage tubing assembly and inadequate thickness of tubing that supports the main landing gear leg. The actions specified in this AD are intended to detect, correct, and prevent future cracks in the tubing for the main landing gear leg, which could result in failure of the fuselage tubing assembly. This failure could lead to loss of control of the airplane.

What Must I Do To Address This Problem?

(e) To address this problem, you must do the following:

Actions | Compliance | Procedures
(1) Inspect the main landing gear leg support for cracks | Inspect the airplane within 50 hours time-in-service (TIS) after December 28, 2004 (the effective date of this AD) | Inspect following the procedures in OMF Alert Service Bulletin No. 1107/0002, dated September 16, 2003.
(2) If cracks are found during any inspection required in paragraph (e)(1) or (e)(3)(ii) of this AD, obtain repair instructions from the manufacturer through the FAA and incorporate the repair instructions. This repair eliminates the repetitive inspection requirement of this AD | Repair prior to further flight after the inspection where cracks are found | Contact an Ostmecklengurgische Flugzeugbau GmbH (OMF) representative at 1-819-377-1177 for repair instructions and incorporate these instructions. Summarize and copy all correspondence and send to FAA at the address specified in paragraph (f) of this AD.
(3) If no cracks are found during the inspection required in paragraph (e)(1) of this AD, do the following: (i) inspect tubing for proper thickness and make any appropriate reinforcements (ii) repetitively inspect main landing gear leg support for cracks | Inspect for tubing thickness of the airplane within 50 hours TIS after the initial inspection required in paragraph (e)(1) of this AD. Reinforce prior to further flight after the inspection required in paragraph (e)(3)(i) of this AD. Repetitively inspect the main landing gear leg support within 50 hours TIS after the initial inspection required by paragraph (e)(1) of this AD and thereafter at intervals not to exceed 50 hours TIS | Inspect following procedures in OMF Alert Service Bulletin No. 1107/0002, dated September 16, 2003. Reinforce with instructions from the manufacturer. Contact an Ostmecklengurgische Flugzeugbau GmbH (OMF) representative at 1-819-377-1177 for repair instructions and incorporate these instructions. Summarize and copy all correspondence and send to FAA at the address specified in paragraph (f) of this AD.

May I Request an Alternative Method of Compliance?

(f) You may request a different method of compliance or a different compliance time for this AD by following the procedures in 14 CFR 39.19. Unless FAA authorizes otherwise, send your request to your principal inspector. The principal inspector may add comments and will send your request to the Manager, Standards Office, FAA. For information on any already approved alternative methods of compliance, contact Karl Schletzbaum, Aerospace Engineer, ACE-112, Small Airplane Directorate, 901 Locust, Room 301, Kansas City, Missouri, 64106; telephone: (816) 329-4146; facsimile: (816) 329-4149.

Is There Other Information That Relates to This Subject?

(g) LBA Airworthiness Directive No. 2003-272, dated October 7, 2003, and OMF Alert Service Bulletin 1107/0002, dated September 16, 2003, pertain to the subject of this AD.

Does This AD Incorporate Any Material by Reference?

(h) You must do the actions required by this AD following the instructions in OMF Aircraft Alert Service Bulletin 1107/0002, dated September 16, 2003. The Director of the Federal Register approved the incorporation by reference of this service bulletin in accordance with 5 U.S.C. 552(a) and 1 CFR part 51. To get a copy of this service information, contact Ostmecklenburgische Flugzeugbau GmbH, Flughafenstrasse, 17039 Trollenhagen, Federal Republic of Germany; telephone: 011 49 395 42560-0; facsimile: 011 49 395 42560-20. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is 2003-CE-67-AD.

Issued in Kansas City, Missouri, on November 15, 2004.
Scott L. Sedgwick,
Acting Manager, Small Airplane Directorate, Aircraft Certification Service.

[FR Doc. 04-25789 Filed 11-24-04; 8:45 am]

BILLING CODE 4910-13-P